DEPARTMENT OF HEALTH AND HUMAN SERVICES

Meeting of the National Vaccine Advisory Committee Vaccine Safety Working Group

AGENCY: Department of Health and Human Services, Office of the Secretary, Office of Public Health and Science.

ACTION: Notice of meeting.

SUMMARY: As stipulated by the Federal Advisory Committee Act, the Department of Health and Human Services (HHS) is hereby giving notice that the National Vaccine Advisory Committee (NVAC) Vaccine Safety Working Group will hold a meeting. The meeting is open to the public. Pre-registration is required for both public attendance and comment. Audio conferencing will be available for listening only.

DATES: The meeting will be held on February 4, 2009, from 8 a.m. to 12:30 p.m.

ADDRESSES: Department of Health and Human Services; Hubert H. Humphrey Building, Room 800, 200 Independence Avenue, SW., Washington, DC 20201.

FOR FURTHER INFORMATION CONTACT: Ms. Kirsten Vannice, National Vaccine Program Office, Department of Health and Human Services, Room 443-H, Hubert H. Humphrey Building, 200 Independence Avenue, SW., Washington, DC 20201. Phone: (202) 690-5566; Fax: (202) 260-1165; e-mail: kirsten.vannice@hhs.gov.

SUPPLEMENTARY INFORMATION: Pursuant to Section 2101 of the Public Health Service Act (42 U.S.C. Section 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program on matters related to the Program's responsibilities. The Assistant Secretary for Health serves as Director of the National Vaccine Program.

The NVAC Vaccine Safety Working Group was established to (1) undertake and coordinate a scientific review of the draft Centers for Disease Control and Prevention (CDC) Immunization Safety Office (ISO) Scientific Agenda, and (2) review the current vaccine safety system.

On February 4, 2009, the NVAC Vaccine Safety Working Group will hear and discuss the results of the community activities that occurred to obtain public input on the ISO Scientific Agenda, and a summary of the written comments solicited in a previous Federal Register notice from January 2, 2009 (for more information on submitting written comments, please see below). This information will inform the Working Group and the NVAC recommendations on the ISO scientific agenda.

Public attendance at the meeting is limited to space available. Individuals who plan to attend and need special assistance, such as sign language interpretation or other reasonable accommodations, should notify the contact person above at least one week prior to the meeting. Members of the public will have the opportunity to provide comments at the meeting. Public comment will be limited to five minutes per speaker. Pre-registration is required for both public attendance and comment. Individuals who would like to submit written statements to the NVAC Vaccine Safety Working Group should refer to instructions on the Federal Register Notice Docket ID fr02ja09-30, January 2, 2009 (Volume 74, Number 1) pages 107-108 (http://edocket.access.gpo.gov/2009/E8-31196.htm). Any members of the public who wish to have printed material distributed to NVAC Vaccine Safety Working Group members should submit materials to the Executive Secretary, NVAC, through the contact person listed above prior to close of business January 30, 2009. Audio-conferencing will be available for listening only. The call-in number is as follows: 888-469-2187, Participant Passcode: 2973732.

Dated: January 13, 2009.
Bruce Gellin,
Deputy Assistant Secretary for Health Director, National Vaccine Program Office.

[FR Doc. E9-973 Filed 1-15-09; 8:45 am]

BILLING CODE 4150-44-P